DEPARTMENT OF HOMELAND SECURITY

Coast Guard

[Docket No. USCG-2013-0406]

Certificate of Alternative Compliance for the M/V CHARLEVOIX, 225736

AGENCY: Coast Guard, DHS.

ACTION: Notice.

SUMMARY: The Coast Guard announces that a Certificate of Alternative Compliance was issued for the passenger vessel ferry CHARLEVOIX as required by 33 U.S.C. 1605(c) and 33 CFR 81.18.

DATES: The Certificate of Alternative Compliance was issued on May 10, 2013.

ADDRESSES: The docket for this notice is available for inspection or copying at the Docket Management Facility (M-30), U.S. Department of Transportation, West Building Ground Floor, Room W12-140, 1200 New Jersey Avenue SE., Washington, DC 20590, between 9 a.m. and 5 p.m., Monday through Friday, except Federal holidays. You may also find this docket on the Internet by going to http://www.regulations.gov, inserting USCG-2013-0406 in the “SEARCH” box, and then clicking “Search.”

FOR FURTHER INFORMATION CONTACT: If you have questions on this notice, call LT Steven Melvin, District Nine, Prevention Branch, U.S. Coast Guard, telephone 216-902-6343. If you have questions on viewing or submitting material to the docket, call Renee V. Wright, Program Manager, Docket Operations, telephone 202-366-9826.

SUPPLEMENTARY INFORMATION:

Background and Purpose

A Certificate of Alternative Compliance, as allowed for under 33 U.S.C. 1605 (c) and 33 CFR 81.18, has been issued for the M/V CHARLEVOIX. The vessel's primary purpose is a cable guided passenger car ferry that operates on the South Arm of Lake Superior in Charlevoix, Michigan. The unique design of the vessel did not lend itself to full compliance with Annex I of the Inland Rules Act.

The Commandant, U.S. Coast Guard, certifies that full compliance with the Inland Rules Act would interfere with the special functions/intent of the vessel and would not significantly enhance the safety of the vessel's operation. Placing the single masthead and stern lights on this cable guided passenger and vehicle ferry would obstruct the vehicle deck.

The Certificate of Alternative Compliance authorizes the M/V CHARLEVOIX to deviate from the requirements set forth in Annex I of the Inland Rules Act, by installing two Masthead lights for each direction of travel as near as practical to the vessel centerline and two sets of stern lights for each direction of travel as the aft and forward end of the deckhouse.

This notice is issued under authority of 33 U.S.C. 1605(c), and 33 CFR 81.18.

Dated: May 24, 2013.
S. E. Anderson,
Commander, U.S. Coast Guard, Acting Chief, Prevention Division by Direction of the Commander, Ninth Coast Guard District.

[FR Doc. 2013-14085 Filed 6-12-13; 8:45 am]

BILLING CODE 9110-04-P